DEPARTMENT OF LABOR

Employment and Training Administration

[TA-W-55,696]

Ametek Aerospace and Power Instruments, a Division of Ametek Aerospace and Defense, a Division of Ametek, Wilmington, MA; Notice of Revised Determination of Alternative Trade Adjustment Assistance

By letter dated November 19, 2004, a representative of the International Union of Electronic/Communication Workers of America, Local 201, requested administrative reconsideration regarding Alternative Trade Adjustment Assistance (ATAA). The certification for Trade Adjustment Assistance was signed on October 22, 2004. The notice of determination was published in the Federal Register on November 12, 2004 (69 FR 65463).

The initial investigation determined that subject worker group possess skills that are easily transferable.

The petitioner provided new information to show that the workers possess skills that are not easily transferable.

At least five percent of the workforce at the subject firm is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

All workers of Ametek Aerospace and Power Instruments, A Division of Ametek Aerospace and Defense, A Division of Ametek, Wilmington, Massachusetts, who became totally or partially separated from employment on or after September 24, 2003, through October 22, 2006, are eligible to apply for adjustment assistance under section 223 of the Trade Act of 1974, and are also eligible to apply for alternative trade adjustment assistance under section 246 of the Trade Act of 1974.

Signed in Washington, DC, this 30th day of December, 2004.
Elliott S. Kushner,
Certifying Officer, Division of Trade Adjustment Assistance.

[FR Doc. E5-200 Filed 1-19-05; 8:45 am]

BILLING CODE 4510-30-P